DEPARTMENT OF EDUCATION

Submission for OMB Review; Comment Request

AGENCY: Department of Education.

ACTION: Correction notice/extension of comment period.

SUMMARY: On October 15, 2002, the Department of Education published a 30-day public comment period notice in the Federal Register (Page 63635, Column 3) for the information collection, “Annual Progress Reporting Form for the American Indian Vocational Rehabilitation Services (AIVRS) Program.” Because of a system software error, the contents of http://edicsweb.ed.gov were not updated to reflect the materials submitted to OMB. The Leader, Regulatory Management Group, Office of the Chief Information Officer, sincerely apologizes for any inconvenience caused by this error and hereby extends the public comment period through January 3, 2003.

While the contents of http://edicsweb.ed.gov have been updated to reflect the correct information, written requests for information should be addressed to Vivian Reese, Department of Education, 400 Maryland Avenue, SW., Room 4050, Regional Office Building 3, Washington, DC 20202-4651 or to the e-mail address Vivian.Reese@ed.gov. Requests may also be faxed to 202-708-9346. Please specify the complete title of the information collection when making your request. Comments regarding burden and/or the collection activity requirements should be directed to Sheila Carey at Sheila.Carey@ed.gov. Individuals who use a telecommunications device for the deaf (TDD) may call the Federal Information Relay Service (FIRS) at 1-800-877-8339.

Dated: November 26, 2002.
John D. Tressler,
Leader, Regulatory Management Group, Office of the Chief Information Officer.

[FR Doc. 02-30553 Filed 12-2-02; 8:45 am]

BILLING CODE 4000-01-P